DEPARTMENT OF COMMERCE

International Trade Administration

A-570-822

Notice of Extension of Time Limit for the Final Results of Antidumping Duty Administrative Review: Certain Helical Spring Lock Washers from the People's Republic of China

AGENCY: Import Administration, International Trade Administration, Department of Commerce.

EFFECTIVE DATE: March 8, 2005.

FOR FURTHER INFORMATION CONTACT: Marin Weaver at (202) 482-2336 or Cathy Feig at (202) 481-3962, AD/CVD Operations, Office 8, Import Administration, International Trade Administration, U.S. Department of Commerce, 14th Street and Constitution Avenue, NW, Washington, DC 20230.

SUPPLEMENTARY INFORMATION:

Background

On November 9, 2004, the Department of Commerce (the Department) published in the Federal Register the preliminary results of the administrative review of the antidumping duty order on helical spring lock washers from the People's Republic of China. See Certain Helical Spring Lock Washers from the People's Republic of China; Preliminary Results of Antidumping Duty Administrative Review, 69 FR 64903. This review covers the period October 1, 2002, through September 30, 2003. The final results of this administrative review are currently due not later than March 9, 2005.

Extension of Time Limit for Final Results

Section 751(a)(3)(A) of the Tariff Act of 1930, as amended (the Act), requires the Department to issue the final results of an administrative review within 120 days after the date on which the preliminary results are published. However, if it is not practicable to complete the review within the time specified, the administering authority may extend the final results to not later than 180 days following the publication of the preliminary results.

In order to fully consider the issue of Hangzhou's market-economy purchases of steel wire rod from the United Kingdom raised in Hangzhou's December 10, 2004, case brief, it is not practicable to complete this review within the time limit mandated by the Act. Due to the complex nature and broader implications raised by this issue, the Department needs extra time to analyze and address this issue. Therefore, in accordance with section 751(a)(3)(A) of the Act, the Department is fully extending the time period for issuing the final results of review from March 9, 2005, until not later than May 8, 2005.

Dated: March 1, 2005.
Barbara E. Tillman,
Acting Deputy Assistant Secretary for Import Administration.

[FR Doc. E5-973 Filed 3-7-05; 8:45 am]

BILLING CODE:3510-DS-S